DEPARTMENT OF ENERGY

Office of Science; Biological and Environmental Research Advisory Committee; Renewal

AGENCY: Department of Energy.

ACTION: Notice of renewal.

SUMMARY: Pursuant to section 14(a)(2)(A) of the Federal Advisory Committee Act, and in accordance with section 102-3.65, title 41 of the Code of Federal Regulations, and following consultation with the Committee Management Secretariat, General Services Administration, notice is hereby given that the Biological and Environmental Research Advisory Committee has been renewed for a two-year period beginning in November 2001. The Committee will provide advice to the Director, Office of Science, on the Biological and Environmental Research Program managed by the Office of Biological and Environmental Research.

The renewal of the Biological and Environmental Research Advisory Committee has been determined to be essential to the conduct of the Department of Energy business and to be in the public interest in connection with the performance of duties imposed upon the Department of Energy by law. The Committee will operate in accordance with the provisions of the Federal Advisory Committee Act, the Department of Energy Organization Act (Public Law No. 95-91), and rules and regulations issued in implementation of those Acts.

Further information regarding this Advisory Committee can be obtained from Ms. Rachel M. Samuel at (202) 586-3279.

Issued in Washington, DC on November 27, 2001.
James N. Solit,
Advisory Committee Management Officer.

[FR Doc. 01-30353 Filed 12-6-01; 8:45 am]

BILLING CODE 6450-01-P